DEPARTMENT OF TRANSPORTATION

[Docket OST-2003-15944]

Office of the Secretary; Application of Delta Air Lines, Inc. for Exemption from 14 CFR 212.3 Permitting Limited Waiver of Advance Charter Payment

AGENCY: Department of Transportation.

ACTION: Notice of Order to Show Cause (Order 2004-9-18).

SUMMARY: The Department of Transportation is directing all interested persons to show cause why it should not issue an order granting to Delta Air Lines, Inc. (“Delta”) a one-year exemption from 14 CFR 212.3(e) with respect to single-entity charters using jet aircraft having more than 100 seats provided to Fortune 500 Companies, permitting in such cases only, that advance payment of the charter price may be waived in whole or in part by the carrier and charter customer jointly, as described more fully in Order 2004-9-18. Under the order, where such a waiver has been made only in part, the amount of any bond required under this exemption, or the amount of a corresponding substitute letter of credit (under Order 2003-11-16), need not exceed the amount of the charter price actually collected by the carrier.

DATES: Persons wishing to file objections should do so no later than October 4, 2004. Answers to objections should be filed no later than October 11, 2004.

ADDRESSES: Comments, objections, and answers to objections should be filed in Docket OST-2003-15944 and addressed to the Department of Transportation Dockets (M-30, Room PL-401), U.S. Department of Transportation, 400 Seventh Street, SW., Washington, DC 20590 and should be served upon the parties listed in Attachment A to the order.

FOR FURTHER INFORMATION CONTACT: David Robert Foss, Office of Aviation Enforcement and Proceedings (C-70, Room 4116), U.S. Department of Transportation, 400 Seventh Street, SW., Washington, DC 20590, (202) 366-9342.

Dated: September 20, 2004.
Robert S. Goldner,
Special Counsel to Assistant Secretary for Aviation and International Affairs.

[FR Doc. 04-21522 Filed 9-23-04; 8:45 am]

BILLING CODE 4910-HY-P